DEPARTMENT OF AGRICULTURE

Forest Service

Kootenai National Forest, Lincoln County, MT; Miller West Fisher Project

AGENCY: Forest Service, USDA.

ACTION: Notice of intent to prepare a supplemental environmental impact statement.

SUMMARY: The Forest Service will prepare a Supplemental Environmental Impact Statement (SEIS) for the Miller West Fisher Project. The Project includes timber harvest, fuels reduction, precommercial thinning, prescribed fire, watershed rehabilitation activities, pool creation in Miller Creek, improvement of trails and trailheads, fuels management and hazard tree removal in Lake Creek Campground, and access management changes, including road decommissioning. The project is located in the Silverfish Planning Subunit on the Libby Ranger District, Kootenai National Forest, Lincoln County, Montana, and south of Libby, Montana. The Notice of Availability of the Draft EIS for this project was published in the Federal Register (vol. 74, no. 43) on March 6, 2009, and the notice of the Final EIS (vol. 74 no. 126) on July 2, 2009. The Record of Decision was issued in June of 2009. The Record of Decision was litigated in District Court for the District of Montana (CV 09-M-DWM) on issues regarding the grizzly bear analysis. The District Judge remanded the project to the Forest Service to address deficiencies in disclosures in the analysis. A Supplemental EIS is being prepared to address these disclosures in the grizzly bear analysis.

DATES: Scoping is not required for supplements to environmental impact statements [40 CFR 1502.9(c)(4)]. There was extensive public involvement in the development of the proposed action, the Draft EIS and the Final EIS, and the Forest Service is not inviting comments at this time. A Draft SEIS is expected to be available for public review and comment in May 2011; and a Final SEIS in June 2011.

ADDRESSES: The line officer responsible for this analysis is Malcolm Edwards, District Ranger, Libby Ranger District, 12557 MT Hwy 37, Libby, MT 59923.

FOR FURTHER INFORMATION CONTACT: Contact Leslie McDougall, Team Leader, Three Rivers Ranger District, at (406) 295-4693.

SUPPLEMENTARY INFORMATION: The Miller West Fisher Project Area is approximately 20 air miles south of Libby, Montana, within all or portions of T25N, R29W-R31W, T26N, R29W-R31W, T27N, R29W-R31W, PMM, Lincoln County, Montana.

The Miller West Fisher Project Supplemental EIS will provide additional information and disclosures on the grizzly bear analysis in support of the Record of Decision issued in June 2009. More specifically, the Supplemental EIS will provide clarification and additional information on the following disclosures as requested by the District Court of Montana:

1. Why the Bear Management Unit is the appropriate scale of analysis for cumulative effects;

2. Further discussion on the limitations of Wakkinen and Kasworm (1997) utilized as the Best Available Science in regard to grizzly bear habitat protection in the Cabinet-Yaak Ecosystem Grizzly Bear Recovery Zone;

3. Further explanation on how the Miller West Fisher Project was made compatible with grizzly bear needs, consistent with the Kootenai National Forest 1987 Forest Plan;

4. Address potential incidental take of grizzly bear in areas outside the recovery zone that are occupied by grizzly bears;

5. Provide further explanation for why helicopter logging would not cause harm to grizzly bear.

Record of Decision—Alternative 6-Modified

The Miller West Fisher Project Record of Decision issued in June 2009 authorized the following:

Vegetation treatments: Timber harvest and associated fuel treatment on 1,898 acres, including intermediate harvest on approximately 1,206 acres and regeneration harvest on approximately 692 acres; pre-commercial thinning will be implemented on approximately 351 acres; prescribed fire will be completed on 2,830 acres. These activities would contribute approximately 8.2 million board feet (MMBF) of timber products to the economy.

Transportation actions: Construction of 3.29 miles of temporary road for timber harvest, to be obliterated afterward; implementation of best management practices (BMPs) and road maintenance work will be applied to approximately 38.99 miles of haul roads; placing 19.2 miles of road into intermittent stored service; decommissioning 1.43 miles of road; access changes are included to address watershed impacts, increase big game security through reduction in open road density (ORD), and to create grizzly bear core habitat in bear management unit (BMU) 6.

Other activities: Pool creation in Miller Creek and stream bank stabilization in West Fisher Creek; improvement of trails and trailheads, including 5.9 miles of trail tread improvements for safety; fuels reduction and hazard tree removal in the Lake Creek Campground; spring development in the North Fork of Miller Creek; culvert replacement at the 0.5 milepost on Rd. 2314 to remove a barrier to fish and aquatic species.

Supplemental Environmental Impact Statement

A Draft SEIS is expected to be available for public review and comment in May 2011; and a Final SEIS in June 2011. The comment period for the Draft SEIS will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final supplemental environmental impact statement.

To assist the Forest Service in identifying and considering issues and concerns on the proposed action, comments on the Draft SEIS should be as specific as possible. It is also helpful if comments refer to specific pages or chapters of the draft statement. Reviewers may wish to refer to the Council on Environmental Quality Regulations for implementing the procedural provisions of the National Environmental Policy Act at 40 CFR 1503.3 in addressing these points.

Responsible Official

Paul Bradford, Forest Supervisor of the Kootenai National Forest, 31374 US Hwy 2, Libby, MT 59923 is the Responsible Official for the Miller West Fisher Project.

Dated: March 24, 2011.
Maggie Pittman,
Acting Forest Supervisor, Kootenai National Forest.

[FR Doc. 2011-7751 Filed 3-31-11; 8:45 am]

BILLING CODE 3410-11-P